DEPARTMENT OF ENERGY

Federal Energy Regulatory Commission

[Docket No. ER00-3674-000]

Virginia Electric and Power Company; Notice of Filing

Take notice that on September 14, 2000, Virginia Electric and Power Company (Virginia Power or the Company) tendered for filing the following:

1. Service Agreement for Firm Point-to-Point Transmission Service by Virginia Electric and Power Company to Virginia Electric Marketing LLC designated as Service Agreement No. 297 under the Company's FERC Electric Tariff, Second Revised Volume No. 5;

2. Service Agreement for Non-Firm Point-to-Point Transmission Service by Virginia Electric and Power Company to Virginia Electric Marketing LLC designated as Service Agreement No. 298 under the Company's FERC Electric Tariff, Second Revised Volume No. 5.

The foregoing Service Agreements are tendered for filing under the Open Access Transmission Tariff to Eligible Purchasers effective June 7, 2000. Under the tendered Service Agreements, Virginia Power will provide point-to-point service to Virginia Electric Marketing LLC under the rates, terms and conditions of the Open Access Transmission Tariff.

Virginia Power requests an effective date of September 14, 2000, the date of filing of the Service Agreements.

Copies of the filing were served upon Virginia Electric Marketing LLC, the Virginia State Corporation Commission, and the North Carolina Utilities Commission.

Any person desiring to be heard or to protest such filing should file a motion to intervene or protest with the Federal Energy Regulatory Commission, 888 First Street, NE., Washington, DC 20426, in accordance with Rules 211 and 214 of the Commissions's Rules of Practice and Procedure (18 CFR 385.211 and 385.214). All such motions and protests should be filed on or before October 5, 2000. Protests will be considered by the Commission to determine the appropriate action to be taken, but will not serve to make protestants parties to the proceedings. Any person wishing to become a party must file a motion to intervene. Copies of this filing are on file with the Commission and are available for public inspection. This filing may also be viewed on the Internet at http://www.ferc.red.us/online/rims.htm (call 202-208-2222 for assistance).

David P. Boergers,
Secretary.

[FR Doc. 00-25114 Filed 9-29-00; 8:45 am]

BILLING CODE 6717-01-M